DEPARTMENT OF THE INTERIOR

Fish and Wildlife Service

Notice of Receipt of Application for Approval

The following applicant has applied for approval to conduct certain activities with birds that are protected in accordance with the Wild Bird Conservation Act of 1992. This notice is provided pursuant to Section 112(4) of the Wild Bird Conservation Act of 1992, 50 CFR 15.26(c).

Applicant: Mr. Rick Jordan, Dripping Springs, Texas, on behalf of the Cooperative Breeding Program for Crimson-bellied conure (CB 009). The applicant wishes to amend approved cooperative breeding program CB 009, to include the following species of conure: Hoffman's conure (Pyrrhura hoffmani hoffmani and Pyrrhura hoffmani gaudens). The American Federation of Aviculture maintains responsibility for the oversight of the program.

Written data or comments should be submitted to the Director, U.S. Fish and Wildlife Service, Division of Management Authority, 4401 North Fairfax Drive, Room 700, Arlington, Virginia 22203 and must be received by the Director within 30 days of the date of this publication.

Documents and other information submitted with this application are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX: (703/358-2281).

Dated: September 6, 2000
Rosemarie Gnam,
Chief, Branch of CITES Operations Division of Management Authority.

[FR Doc. 00-23361 Filed 9-11-00; 8:45 am]

BILLING CODE 4310-55-P